DEPARTMENT OF ENERGY

Federal Energy Regulatory Commission

18 CFR Part 35

[Docket No. RM02-1-000]

Standardizing Generator Interconnection Agreements and Procedures; Notice of Extension of Time

January 16, 2002.

AGENCY: Federal Energy Regulatory Commission, DOE.

ACTION: Advance notice of proposed rulemaking; reopening of comment period.

SUMMARY: On October 25, 2001, the Federal Energy Regulatory Commission issued an Advance Notice of Proposed Rulemaking (ANOPR) seeking comments on a standard generator interconnection agreement and procedures that would be applicable to all public utilities that own, operate or control transmission facilities under the Federal Power Act, 66 FR 55140 (November 1, 2001). The date for filing comments is being extended at the request of various interested parties.

DATES: Comments on issues posed by the ANOPR published at 66 FR 55140 (November 1, 2001) shall be filed on or before February 1, 2002.

ADDRESSES: Federal Energy Regulatory Commission,888 First Street, NE.,Washington, DC 20426.

FOR FURTHER INFORMATION CONTACT: Linwood A. Watson, Jr.,Acting Secretary,888 First Street, NE.,Washington, DC 20426,(202) 208-0400.

SUPPLEMENTARY INFORMATION: On January 16, 2002, the American Public Power Association, the American Wind Energy Association, the Edison Electric Institute, the Electric Power Supply Association, the National Association of Regulatory Utility Commissioners, the National Rural Electric Cooperative Association, and the Project for Sustainable FERC Policy (collectively, Petitioners) filed a joint motion for an extension of time for the filing of comments on the issues posed by the Commission's Advance Notice of Proposed Rulemaking (ANOPR), as directed by the Notice issued by the Commission on December 14, 2001, in the above-docketed proceeding.

In its motion, Petitioners state that due to the voluminous nature of the documents involved in this proceeding to date, additional time is needed for industry personnel to prepare and file comments. The motion also states that an extension will not unduly delay the Commission's process and will lead to more thoughtful and well-developed comments in the effort to enhance the ANOPR process.

Upon consideration, notice is hereby given that an extension of time for the filing of comments on issues posed by the ANOPR is granted to and including February 1, 2002.

Linwood A. Watson, Jr.,
Acting Secretary.

[FR Doc. 02-1823 Filed 1-24-02; 8:45 am]

BILLING CODE 6717-01-P